DEPARTMENT OF AGRICULTURE

Office of the Secretary

Waivers Under the Refined Sugar Re-Export Program

AGENCY: Office of the Secretary, USDA.

ACTION: Notice.

SUMMARY: The Office of the Secretary of the Department of Agriculture (USDA) is waiving certain provisions in the Refined Sugar Re-Export Program, effective today. These actions are authorized under the waiver authority for the Refined Sugar Re-Export Program regulation at 7 CFR 1530.113. These waivers will facilitate a re-balancing of re-export program license amounts and provide greater flexibility to offset exports and transfers with raw sugar imports.

DATES: Effective Date: May 1, 2013.

FOR FURTHER INFORMATION CONTACT: Ron Lord, Director, Import Policies and Export Reporting Division, Foreign Agricultural Service, Department of Agriculture, 1400 Independence Avenue SW., AgStop 1021, Washington, DC 20250-1021; by telephone (202) 720-6939; by fax (202) 720-0876; or by email ronald.lord@fas.usda.gov.

SUPPLEMENTARY INFORMATION: Under the Refined Sugar Re-Export Program, refiners may enter raw sugar unrestricted by the quantitative limit established for the raw sugar tariff-rate quota or the requirements of certificates of quota eligibility provided for in 15 CFR part 2011, as long as licensees export an equivalent quantity of refined sugar, either as refined sugar or as an ingredient in sugar-containing products, or use the refined sugar in the production of polyhydric alcohols. Because of current sugar market conditions, to operate the Sugar Program in accordance with the statutory mandate in section 156(f)(1) of the Federal Agriculture Improvement and Reform Act of 1996, as amended, at no cost to the Federal Government by avoiding the forfeiture of sugar to Commodity Credit Corporation, USDA is implementing the following two waivers under the waiver authority for the Refined Sugar Re-Export Program regulation at 7 CFR 1530.113. This will facilitate a re-balancing of re-export program license amounts and provide greater flexibility to offset exports and transfers with raw sugar imports.

(1) USDA will temporarily permit licensed refiners to transfer program sugar from their license to another licensed refiner's license. This waiver shall be effective on the date of publication of this notice, and expire on September 30, 2013.

(2) USDA is temporarily increasing the license limit for raw cane sugar refiners from 50,000 metric tons raw value of credits to 100,000 metric tons raw value of credits. This waiver will expire on December 31, 2014. Beginning on January 1, 2015, the credit limit will again be 50,000 metric tons raw value. No change is being made to the 50,000 metric ton raw value limit for debits.

Dated: April 25, 2013.
Michael T. Scuse,
Under Secretary, Farm and Foreign Agricultural Services.

[FR Doc. 2013-10246 Filed 4-30-13; 8:45 am]

BILLING CODE 3410-10-P